DEPARTMENT OF THE TREASURY

Internal Revenue Service

26 CFR Part 300

[REG-107459-24]

RIN 1545-BR22

Estate Tax Closing Letter User Fee Update

Correction

In proposed rule document 2025-08929, appearing on pages 21439 through 21441 in the issue of Tuesday, May 20, 2025, make the following correction:

On p. 21440, in the 1st column, on the 21st line, after FOR FURTHER INFORMATION CONTACT, the language “Michael A. Weber at (202) 317-6090” should be corrected to read as “Maria E. Arias-Buchanan at (202) 803-9569.”

[FR Doc. C1-2025-08929 Filed 6-23-25; 8:45 am]

BILLING CODE 4830-01-M